DEPARTMENT OF THE INTERIOR

National Park Service

[NPS-WASO-NRNHL-DTS#-28832; PPWOCRADI0, PCU00RP14.R50000]

National Register of Historic Places; Notification of Pending Nominations and Related Actions

AGENCY: National Park Service, Interior.

ACTION: Notice.

SUMMARY: The National Park Service is soliciting comments on the significance of properties nominated before August 31, 2019, for listing or related actions in the National Register of Historic Places.

DATES: Comments should be submitted by October 3, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 31, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Jefferson Hotel, 101 S Central Ave. (1 E Jefferson St.), Phoenix, SG100004509

DISTRICT OF COLUMBIA

District of Columbia

Wardman Flats, Square 519 bounded by 3rd, 4th & R Sts. & Florida Ave. NW, Washington, SG100004500

MISSISSIPPI

Covington County

Mount Olive Historic District, Roughly bounded by the N & S sides of Main St., extending from the jct. of Jaynesville Rd. to Old Hwy 49, Mount Olive, SG100004507

Hinds County

Upper Midtown Historic District, Roughly bounded by Duncan Ave., N West St., McTyere Ave., & N Mill St., Jackson, SG100004503

Southwest Midtown Historic District, Roughly bounded by Whitfield St., Blair St., East Bell St., and North Mill St., Jackson, SG100004504

Jackson County

Evergreen Cemetery, 1200 Sunset Dr., Ocean Springs, SG100004506

Lafayette County

Avent Acres Neighborhood Historic District, Roughly bounded by Lamar Ave., rear property line of Oxford Apts., Douglas Dr., Williams & Sisk Ave., Oxford, SG100004508

Leflore County

Downtown Greenwood Historic District, Roughly bounded by Front St., River Rd., Lamar, St., McLemore St., Pelican St., Avenue F, Henry St., West Johnson St., Vardaman St., & Dewey St., Greenwood, SG100004502

Warren County

Rolling Acres Historic District, Elizabeth Circle & intersecting streets, Vicksburg, SG100004505

Authority: Section 60.13 of 36 CFR part 60.

Dated: September 3, 2019.
Julie H. Ernstein,
Supervisory Archeologist, National Register of Historic Places/National Historic Landmarks Program.

[FR Doc. 2019-20172 Filed 9-17-19; 8:45 am]

BILLING CODE 4312-52-P